FEDERAL COMMUNICATIONS COMMISSION

Sunshine Act Meeting

July 14, 2000.

FCC TO HOLD OPEN COMMISSION MEETING FRIDAY, JULY 21, 2000

The Federal Communications Commission will hold an Open Meeting on the subjects listed below on Friday, July 21, 2000, which is scheduled to commence at 9:30 a.m. in Room TW-C305, at 445 12th Street, S.W., Washington, D.C.

Item No. | Bureau | Subject
1 | Common carrier and consumer information | Title: The Use of N11 Codes and Other Abbreviated Dialing Arrangements (CC Docket No. 92-105).
|  | Summary: The Commission will consider a Second Report and Order concerning the nationwide implementation of 711 access to telecommunications relay services (TRS).
2 | Common carrier | Title: Petition by the United States Department of Transportation for Assignment of an Abbreviated Dialing Code (N11) to Access Intelligent Transportation System (ITS) to Services Nationwide (NSD-L-99-24); Request by the Alliance of Information and Referral Systems, United Way of America, United Way 211 (Atlanta, Georgia), United Way of Connecticut, Florida Alliance of Information and Referral Services, Inc., and Texas I&R Network for Assignment of 211 Dialing Code (NSD-L-98-80); and The Use of N11 Codes and Other Abbreviated Dialing Arrangements (CC Docket No. 92-105).
|  | Summary: The Commission will consider a Third Report and Order and Order on Reconsideration concerning petitions for assignment of N11 codes for access to community information and referral services, and for access to traveler information services.
3 | Common carrier | Title: Implementation of the Subscriber Carrier Selection Changes Provisions of the Telecommunications Act of 1996; and Policies and Rules Concerning Unauthorized Changes of Consumers Long Distance Carriers (CC Docket No. 94-129).
|  | Summary: The Commission will consider a Third Report and Order and Second Order on Reconsideration concerning the amendment of its carrier change authorization and verification rules, including the use of internet letter of authorization, and other proposals set forth in the Second Report and Order and Further Notice of Proposed Rule Making.
4 | Mass media | Title: Implementation of Video Description of Video Programming (MM Docket No. 99-339).
|  | Summary: The Commission will consider a Report and Order concerning rules requiring certain broadcast stations and multichannel video programming distributors to provide programming with video description.
5 | Office of Engineering and Technology | Title: Closed Captioning Requirements for Digital Television Receivers (ET Docket No. 99-254); and Closed Captioning and Video Description of Video Programming, Implementation of Section 305 of the Telecommunications Act of 1996, Video Programming Accessibility (MM Docket No. 95-176).
|  | Summary: The Commission will consider a Report and Order concerning technical standards for the display of closed captions on digital television (DTV) receivers.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at http://www.fcc.gov/realaudio/. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
William F. Caton,
Deputy Secretary.

[FR Doc. 00-18443 Filed 7-17-00; 3:34 pm]

BILLING CODE 6712-01-M